DEPARTMENT OF HOMELAND SECURITY

Coast Guard

[Docket No. USCG-2015-0023]

Lower Mississippi River Waterway Safety Advisory Committee; Meeting

AGENCY: Coast Guard, DHS.

ACTION: Notice of Federal Advisory Committee Meeting.

SUMMARY: The Lower Mississippi River Waterway Safety Advisory Committee will meet to discuss safe transit of vessels and cargoes to and from the ports of the Lower Mississippi River. This meeting will be open to the public.

DATES: The Committee will meet on Wednesday, March 11, 2015, from 9 a.m. to 12:00 p.m. Written comments for distribution to committee members and for inclusion on the Lower Mississippi River Waterway Safety Advisory Committee Web site must be submitted on or before March 2, 2015. Please note that this meeting may close early if all business is finished.

ADDRESSES: The Committee will meet at the New Orleans Yacht Club, 403 North Roadway Street, New Orleans, LA 70124 http://noyc.org/wordpress/.

For information on facilities or services for individuals with disabilities or to request special assistance, please contact Lieutenant Junior Grade Colin Marquis as indicated in the FOR FURTHER INFORMATION CONTACT paragraph below.

To facilitate public participation, we are inviting public comment on the issues to be considered by the committee as listed in the “Agenda” section below. Written comments must be identified by the Docket No. USCG-2015-0023 and submitted by one of the following methods:

• Federal eRulemaking Portal: http://www.regulations.gov.

Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand Delivery: Same as mail address above, between 9 a.m. and 5 p.m., Monday through Friday, except Federal Holidays. The telephone number for the Docket Management Facility is 202-366-9329.

Instructions: All submissions must include the words “Department of Homeland Security” and the docket number for this action. Comments received will be posted without alteration at http://www.regulations.gov., including any personal information provided. You may review a Privacy Act notice regarding our public dockets in the January 17, 2008, issue of the Federal Register (73 FR 3316).

Docket: For access to the docket to read documents or comments related to this notice, go to http://www.regulations.gov, enter the docket number in the “Search” field and follow the instructions on the Web site.

FOR FURTHER INFORMATION CONTACT: Lieutenant Junior Grade Colin Marquis, Alternate Designated Federal Officer of the Lower Mississippi River Waterway Safety Advisory Committee, telephone 504-365-2280, or at Colin.L.Marquis@uscg.mil. If you have any questions on reviewing or submitting material to the docket, call Cheryl Collins, Program Manager, Docket Operations, telephone 202-366-9826 or 1-800-647-5527.

SUPPLEMENTARY INFORMATION: Notice of this meeting is given under the Federal Advisory Committee Act (Public Law 92-463, 5 U.S.C. Appendix). The Lower Mississippi River Waterway Advisory Committee is an advisory committee authorized in Section 19 of the Coast Guard Authorization Act of 1991, (Public Law 102-241), as amended by section 621(d) of the Coast Guard Authorization Act of 2010, (Public Law 111-281) and chartered under the provisions of Federal Advisory Committee Act. The Lower Mississippi River Waterway Advisory Committee provides advice and recommendations to the Department of Homeland Security on matters relating to communications, surveillance, traffic management, anchorages, development and operation of the New Orleans Vessel Traffic Service, and other related topics dealing with navigation safety on the Lower Mississippi River as required by the U.S. Coast Guard.

Agenda

The agenda for the March 11, 2015, Committee meeting is as follows:

(1) Opening Remarks.

(2) Introduction;

(3) Roll call of committee members and determination of a quorum;

(4) Approval of the April 2014 minutes.

(5) Old Business:

(a) Status of Action Items from April 2014 Meeting.

(6) Agency Updates:

(a) Southeast Louisiana Flood Protection Authority—East and West

i. Procedures used by Flood Protection Authority—West for Bayou Segnette and Western Closure Complex Gate Closures including Routine Exercises and Response to Tropical Events.

(b) National Oceanic and Atmospheric Association

i. Move to Electronic Navigation Charts.

ii. Digital Accessibility of National Oceanic and Atmosphere Association Chart Data for Navigation, Restoration and Coastal Planning, and Spill and Incident Response.

iii. National Oceanic and Atmosphere Association Physical Oceanographic Real-Time System.

iv. National Oceanic and Atmosphere Association Northern Gulf Operational Forecast System Grid Model Improvements.

v. Surveying and Chart Updates to Navigation Hazards in and around the Southern Bird-foot Delta.

vi. Recognition of Electronic Displays on Tow Boats and Cruise Ships.

vii. Support to the Inner Harbor Navigation Canal Alternate Route Establishment.

(c) Army Corps of Engineers

i. Water Resources Reform and Development Act impacts to Flood Control Structures and Dredging Operations.

(d) Coast Guard

i. Establishment of the Inner Harbor Navigation Canal Alternate Route.

ii. Status of Sensors at 81 Mile Point.

iii. Proposed Liquefied Natural Gas Terminals and Waterway Impacts.

(7) New Business, to include discussion of:

(a) Mile Marker 73 Memorandum of Understanding.

(b) Anchorage Establishment and Amendments.

(c) Systematic Port Planning.

(d) Lower Mississippi River Waterway Safety Advisory Committee Vacancy Notice.

(8) Public comment period.

(9) Adjournment.

There will be a comment period for the Lower Mississippi River Waterway Safety Advisory Committee and comment period for the public after each deliberation and voting, but before each recommendation is formulated. The Committee will review the information presented on each issue, deliberate on any recommendations presented, and formulate recommendations for the Department's consideration. Please note that the public oral comment period may end before the prescribed ending time following the last call for comments. Speakers are requested to limit their comments to 3 minutes. Please contact Lieutenant Junior Grade Colin Marquis listed in the FOR FURTHER INFORMATION CONTACT section to register as a speaker. This notice may be viewed in our online docket, USCG-2015-0023, at http://www.regulations.gov.

Dated: February 10, 2015.
Kevin S. Cook,
Rear Admiral, U.S. Coast Guard, Commander, Eighth Coast Guard District.

[FR Doc. 2015-03542 Filed 2-20-15; 8:45 am]

BILLING CODE 9110-04-P